DEPARTMENT OF COMMERCE

National Institute of Standards and Technology

Synthetic Biology Standards Consortium—Planning and Progress Workshop

AGENCY: National Institute of Standards & Technology, Department of Commerce.

ACTION: Notice of public workshop.

SUMMARY: NIST announces the Synthetic Biology Standards Consortium (SBSC)-Planning and Progress Workshop to be held on Tuesday November 3, 2015 from 9:00 a.m.-5:00 p.m. Pacific time. The SBSC is a standards setting consortium focused on the shared standards development needs of consortium participants. It will provide a forum for collaborative work through the formation of technical standards-setting working groups. Working groups are organized around a clear vision of specific metrology products—standards, including reference materials; reference data; reference methods; and documentary standards—that will enable interoperability and reproducibility. At this workshop the working groups will collaboratively develop work products.

DATES: The Synthetic Biology Standards Consortium (SBSC)—Planning and Progress Workshop will be held on Tuesday, November 3, 2015 from 9:00 a.m.-5:00 p.m. Pacific Time.

ADDRESSES: The meeting will be held at the Quadrus Conference Center, 2400 Sand Hill Road, Menlo Park, CA 94025. To register, go to http://jimb.stanford.edu/sbsc-registration. There is no registration fee. Space is limited so please register early. For additional meeting details, including travel and parking information, visit http://jimb.stanford.edu/sbsc-1115-workshop.

FOR FURTHER INFORMATION CONTACT: For further information contact Matthew Munson, Sarah Munro, and Marc Salit by email at sbsc@nist.gov.

SUPPLEMENTARY INFORMATION: A robust metrology infrastructure for the field of synthetic biology will enable coordination of labor and reuse of materials, driving economic growth. Metrology products—standards, including reference materials; reference data; reference methods; and documentary standards—can enable business-to-business transactions at scale. The intent of the NIST-hosted Synthetic Biology Standards Consortium (SBSC) is to collectively establish infrastructure to support a fully integrated global synthetic biology enterprise. NIST will provide standards development support for some consortium activities, as well as facilitation and technical leadership.

The SBSC has been convened as a standards setting consortium focused on the shared standards development needs of consortium members. It will provide a forum for collaborative work through the formation of technical standards-setting working groups. Successful working groups will be organized around a clear vision of specific metrology products that will enable interoperability and reproducibility.

Examples of metrology products include a reference material such as a standard proteome set from whole cell lysates to be used as a benchmark for mass spectroscopy; reference data such as a DNA watermark repository; a reference method for DNA sequence verification; and a documentary standard for minimum information standards for biological protocol interoperability.

The goals of the workshop are to discuss working group progress and plans with the broad consortium, develop a timeline of deliverables for metrology products to be produced by each working group, and collaboratively design and draft relevant documents.

The SBSC Planning and Progress Workshop will be held on Tuesday, November 3, 2015 from 9:00 a.m.-5:00 p.m. Pacific time. The workshop will be held at the Quadrus Conference Center, 2400 Sand Hill Road, Menlo Park, CA 94025. To register, go to http://jimb.stanford.edu/sbsc-registration. There is no registration fee. Space is limited so please register early. For additional meeting details, including travel and parking information, visit http://jimb.stanford.edu/sbsc-1115-workshop.

There is no cost for participating in the consortium or the workshop. No proprietary information will be shared at the workshop.

Authority: 15 U.S.C. 272(b) and (c).

Richard Cavanagh,
Acting Associate Director for Laboratory Programs.

[FR Doc. 2015-24734 Filed 9-29-15; 8:45 am]

BILLING CODE 3510-13-P